DEPARTMENT OF HOUSING AND URBAN DEVELOPMENT

[Docket No. FR-4909-N-04]

Notice of Proposed Information Collection for Public Comment on the Survey of Fair Housing Literacy

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: June 11, 2004.

ADDRESSES: Interested persons are invited to submit comments regarding this proposal. Comments should refer to the proposal by name and/or OMB Control number and should be sent to: Reports Liaison Officer, Policy Development and Research, Department of Housing and Urban Development, 451 7th Street, SW., Room 8226, Washington, DC 20410.

FOR FURTHER INFORMATION CONTACT: Todd Richardson, Program Evaluation Division, Office of Policy Development and Research, Department of Housing and Urban Development, 451 7th Street, SW., Washington, DC 20410; (202) 708-3700, extension 5706 for copies of the proposed forms and other available documents. (This is not a toll-free number.)

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology; e.g., permitting electronic submission of responses.

This Notice also lists the following information:

Title of Proposal: Survey of Fair Housing Literacy.

Description of the need for the information and proposed use: This request is for the clearance of a survey instrument designed to measure the change in the public's knowledge of the nation's fair housing laws between the already completed baseline survey of 2000/2001 and the proposed survey of 2004/2005. The purpose of the survey is to: (1) Replicate the core components of the survey used in 2000 in order to measure change in the public's knowledge of fair housing laws; (2) Ascertain the general public's knowledge of HUD's role in the fair housing process and to better understand why people don't do anything when they feel they have been discriminated against; and (3) Conduct a large enough survey, with weighted sampling, to assess the knowledge of particular protected classes versus the national average. Specific protected classes of interest are African Americans, Hispanics/Latinos, families with children, and persons with disabilities.

Agency form numbers: None.

Members of Affected Public: Individuals.

Estimation of the total number of hours needed to prepare the information collection including number of respondents, frequency of response, and hours of response: 2,500 individuals will be surveyed. Average time to complete the survey is 30 minutes. Respondents will only be contacted once. Total burden hours are 1,250.

Status of the proposed information collection: Pending.

Authority: Section 3506 of the Paperwork Reduction Act of 1995, 44 U.S.C. chapter 35, as amended.

Dated: April 2, 2004.
Harold L. Bunce,
Deputy Assistant Secretary for Economic Affairs.

[FR Doc. 04-8141 Filed 4-9-04; 8:45 am]

BILLING CODE 4210-62-M